DEPARTMENT OF DEFENSE

48 CFR Parts 213 and 253

[DFARS Case 2003-D075]

Defense Acquisition Regulations System; Defense Federal Acquisition Regulation Supplement; Simplified Acquisition Procedures

AGENCY: Defense Acquisition Regulations System, Department of Defense (DoD).

ACTION: Final rule.

SUMMARY: DoD has issued a final rule amending the Defense Federal Acquisition Regulation Supplement (DFARS) to update text addressing the use of simplified acquisition procedures. This rule is a result of a transformation initiative undertaken by DoD to dramatically change the purpose and content of the DFARS.

DATES: Effective January 23, 2006.

FOR FURTHER INFORMATION CONTACT: Ms. Robin Schulze, Defense Acquisition Regulations System, OUSD (AT&L) DPAP (DARS), IMD 3C132, 3062 Defense Pentagon, Washington, DC 20301-3062. Telephone (703) 602-0326; facsimile (703) 602-0350. Please cite DFARS Case 2003-D075.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dars/dfars/transformation/index.htm.

This final rule is a result of the DFARS Transformation initiative. The rule—

• Updates and consolidates text on the use of imprest funds and third-party drafts at DFARS 213.305;

• Deletes unnecessary cross-references at DFARS 213.7001 and 213.7003-2; and

• Deletes guidance on the use of unilateral contract modifications at DFARS 213.302-3, and deletes procedures for use of forms at DFARS 213.307, 253.213, and 253.213-70. This text has been relocated to the new DFARS companion resource, Procedures, Guidance, and Information (PGI), available at http://www.acq.osd.mil/dpap/dars/pgi.

DoD published a proposed rule at 70 FR 19042 on April 12, 2005. DoD received no comments on the proposed rule. Therefore, DoD has adopted the proposed rule as a final rule without change. In addition, statutory references have been updated at DFARS 213.305-3(d)(iii)(A) and 213.306(a)(1)(B).

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule updates and streamlines DFARS text, but makes no significant change to DoD contracting policy.

C. Paperwork Reduction Act

The Paperwork Reduction Act does not apply, because the rule does not impose any information collection requirements that require the approval of the Office of Management and Budget under 44 U.S.C. 3501, et seq.

List of Subjects in 48 CFR Parts 213 and 253

Government procurement.

Michele P. Peterson,
Editor, Defense Acquisition Regulations System.

Therefore, 48 CFR parts 213 and 253 are amended as follows:

1. The authority citation for 48 CFR parts 213 and 253 continues to read as follows:

Authority: 41 U.S.C. 421 and 48 CFR Chapter 1.

PART 213—SIMPLIFIED ACQUISITION PROCEDURES

2. Section 213.302-3 is amended by revising paragraph (2) to read as follows:

213.302-3 Obtaining contractor acceptance and modifying purchase orders.

* * * * *

(2) See PGI 213.302-3 for guidance on the use of unilateral modifications.

* * * * *

213.305-1 [Removed]

3. Section 213.305-1 is removed.

4. Section 213.305-3 is revised to read as follows:

213.305-3 Conditions for use.

(d)(i) On a very limited basis, installation commanders and commanders of other activities with contracting authority may be granted authority to establish imprest funds and third party draft (accommodation check) accounts. Use of imprest funds and third party drafts must comply with—

(A) DoD 7000.14-R, DoD Financial Management Regulation, Volume 5, Disbursing Policy and Procedures; and

(B) The Treasury Financial Manual, Volume I, Part 4, Chapter 3000.

(ii) Use of imprest funds requires approval by the Director for Financial Commerce, Office of the Deputy Chief Financial Officer, Office of the Under Secretary of Defense (Comptroller), except as provided in paragraph (d)(iii) of this subsection.

(iii) Imprest funds are authorized for use without further approval for—

(A) Overseas transactions at or below the micro-purchase threshold in support of a contingency operation as defined in 10 U.S.C. 101(a)(13) or a humanitarian or peacekeeping operation as defined in 10 U.S.C. 2302(8); and

(B) Classified transactions.

213.306 [Amended]

5. Section 213.306 is amended in paragraph (a)(1)(B) by removing “10 U.S.C. 2302(7)” and adding in its place “10 U.S.C. 2302(8)”.

6. Section 213.307 is revised to read as follows:

213.307 Forms.

See PGI 213.307 for procedures on use of forms for purchases made using simplified acquisition procedures.

213.7001 [Removed]

7. Section 213.7001 is removed.

213.7002 and 213.7003 [Redesignated]

8. Sections 213.7002 and 213.7003 are redesignated as sections 213.7001 and 213.7002, respectively.

9. Newly designated section 213.7002 is revised to read as follows:

213.7002 Purchase orders.

The contracting officer need not obtain a contractor's written acceptance of a purchase order or modification of a purchase order for an acquisition under the 8(a) Program pursuant to 219.804-2(2).

213.7003-1 and 213.7003-2 [Removed]

10. Sections 213.7003-1 and 213.7003-2 are removed.

PART 253—FORMS

11. Section 253.213 is revised to read as follows:

253.213 Simplified acquisition procedures (SF's 18, 30, 44, 1165, 1449, and OF's 336, 347, and 348).

(f) DoD uses the DD Form 1155, Order for Supplies or Services, instead of OF 347; and OF 336, Continuation Sheet, instead of OF 348. Follow the procedures at PGI 253.213(f) for use of forms.

12. Section 253.213-70 is revised to read as follows:

253.213-70 Completion of DD Form 1155, Order for Supplies or Services.

Follow the procedures at PGI 253.213-70 for completion of DD Form 1155.

[FR Doc. 06-567 Filed 1-20-06; 8:45 am]

BILLING CODE 5001-08-P